DEPARTMENT OF HOMELAND SECURITY

Coast Guard

33 CFR Part 165

[Docket No. USCG-2023-0054]

Safety Zone; Atlantic Intracoastal Waterway, Swansboro, NC

AGENCY: Coast Guard, DHS.

ACTION: Notification of enforcement of regulation.

SUMMARY: The Coast Guard will enforce a safety zone near Swansboro, NC on July 3, 2023, to provide for the safety of life on navigable waterways of the Atlantic Intracoastal Waterway during a fireworks display. Our regulation for marine events within the Fifth Coast Guard District identifies the regulated area for this event in Swansboro, NC. During the enforcement period, entry of vessels or persons into this safety zone is prohibited unless specifically authorized by the Captain of the Port (COTP), Sector North Carolina or a designated representative.

DATES: The regulation in 33 CFR 165.506(h)(4) for the area listed in item 15 in table 4 in § 165.506(h)(4) will be enforced from 9 p.m. until 9:45 p.m. on July 3, 2023.

FOR FURTHER INFORMATION CONTACT: If you have questions about this notification of enforcement, call or email Petty Officer Ken Farah, Waterways Management Division, U.S. Coast Guard Sector North Carolina, Wilmington, NC; telephone 910-772-2221, email NCMarineevents@uscg.mil.

SUPPLEMENTARY INFORMATION: The Coast Guard will enforce a safety zone in 33 CFR 165.506(h)(4) for the Town of Swansboro Fireworks Display-July 4 Celebration fireworks display from 9 p.m. to 9:45 p.m. on July 3, 2023. This action is being taken to provide for the safety of life on navigable waterways during this event. Our regulation for marine events within the Fifth Coast Guard District, § 165.506(h)(4), specifies the location of the regulated area for the Town of Swansboro Fireworks Display-July 4 Celebration fireworks display at item 15 in table 4 in § 165.506(h)(4), which encompasses portions of the Atlantic Intracoastal Waterway. As reflected in § 165.506, during the enforcement period, if you are the operator of a vessel in the regulated area you must comply with directions from the Captain of the Port (COTP), Sector North Carolina or a designated representative.

In addition to this notification of enforcement in the Federal Register, the Coast Guard plans to provide notification of this enforcement period via the Local Notice to Mariners and Broadcast Notice to Mariners.

Dated: June 20, 2023.
Matthew J. Baer,
Captain, U.S. Coast Guard, Captain of the Port, Sector North Carolina.

[FR Doc. 2023-13479 Filed 6-23-23; 8:45 am]

BILLING CODE 9110-04-P